DEPARTMENT OF THE INTERIOR

Bureau of Ocean Energy Management

[Docket No. BOEM-2024-0036]

Notice of Availability of a Joint Record of Decision for the Proposed Atlantic Shores Offshore Wind South Project; Errata

AGENCY: Bureau of Ocean Energy Management, Interior; National Marine Fisheries Service, National Oceanic and Atmospheric Administration, Commerce, U.S. Army Corps of Engineers, Department of the Army.

ACTION: Record of decision; notice of availability of errata.

SUMMARY: On July 8, 2024, the Bureau of Ocean Energy Management (BOEM) published the notice of availability of the joint record of decision (ROD) on the final environmental impact statement (EIS) for the construction and operations plan (COP) submitted by Atlantic Shores Offshore Wind Project 1, LLC and Atlantic Shores Offshore Wind Project 2, LLC (Atlantic Shores) for its proposed Atlantic Shores Offshore Wind South Project (Project) offshore New Jersey in the Federal Register (89 FR 55977). The ROD described the Department of the Interior's selected alternative. This errata notice clarifies that the Department of the Interior's selected alternative also includes the removal of a single wind turbine generator (WTG) location, identified as AX01 and located approximately 150 to 200 ft (46 to 61 m) from the observed Fish Haven (Atlantic City Artificial Reef Site). While WTG AX01 was identified as removed in the description of the preferred alternative in the final EIS, BOEM inadvertently omitted a specific statement in the ROD noting that position was removed from the selected layout. In addition, the originally published ROD inadvertently identified WTG AX01 as being subject to micrositing instead of removal. In publishing this errata, BOEM is conforming the specific description of the selected alternative to the final EIS and making clear that a total of 3 WTG locations will be removed from the Project. Specific locations for WTG removal and micrositing are clarified in a footnote in the ROD errata.

ADDRESSES: The ROD, ROD errata, and associated information are available on BOEM's website at https://www.boem.gov/renewable-energy/state-activities/atlantic-shores-south.

FOR FURTHER INFORMATION CONTACT: For information related to BOEM's action, please contact Kimberly Sullivan, BOEM Office of Renewable Energy Programs, 45600 Woodland Road, VAM-OREP, Sterling, Virginia 20166, (702) 338-4766, or kimberly.sullvian@boem.gov. For information related to National Marine Fisheries Service's (NMFS) action, contact Katherine Renshaw, National Oceanic Atmospheric Administration (NOAA), Office of General Counsel, (302) 515-0324, katherine.renshaw@noaa.gov. For information related to U.S. Army Corps of Engineers' (USACE) action, please contact Stephen Rochette, (215) 656-6515, PDPA-NAP@usace.army.mil.

SUPPLEMENTARY INFORMATION:

Technical Corrections

In the Atlantic Shores South ROD dated July 1, 2024, on page 33 is corrected to read:

The selected alternative combines aspects of Alternatives B, C4, D3, and E. The selected alternative will locate all permanent structures into the uniform grid spacing, microsite up to 29 WTGs, 1 OSS, and associated interarray cables outside of the 1,000-ft (305-m) buffer of the ridge and swale features within the NMFS-identified AOCs 1 and 2, restrict the height of WTGs in Project 1 to a maximum hub height of 522 ft (159 m) AMSL and maximum blade tip height of 932 ft (284 m) AMSL, provide a minimum 0.81-nmi (1,500-m) setback between the WTGs in Atlantic Shores South and the WTGs in Ocean Wind 1 (Lease Area OCS-A 0498) by removing two WTGs and micrositing one WTG from Project 1, and remove a single WTG location approximately 150 to 200 ft (46 to 61 m) from the observed Fish Haven (Atlantic City Artificial Reef Site). The total number of permanent structures constructed (WTGs, OSSs, and/or met tower) may not exceed 197.

The added footnote is as follows:

Figure 2.1-10-C4 of the final EIS depicts the unique identifier for each position in the WTG array layout. The selected alternative removes positions AX01, BB05, and BC06 from the layout. Positions AZ08, BA09, BC07, BE10, BE12, BE14, BE15, BE16, BF14, BF15, and BG13 have been deemed acceptable for micrositing by BOEM and USCG.

Walter D. Cruickshank,
Deputy Director, Bureau of Ocean Energy Management.

[FR Doc. 2024-22500 Filed 9-30-24; 8:45 am]

BILLING CODE 4340-98-P